DEPARTMENT OF TRANSPORTATION

Federal Aviation Administration

14 CFR Part 71

[Docket FAA 2005-21078; Airspace Docket 05-ANM-07]

Proposed Establishment of Class E Airspace; Eagle, CO

AGENCY: Federal Aviation Administration (FAA), DOT.

ACTION: Notice of proposed rulemaking.

SUMMARY: This proposal would establish Class E airspace at Eagle, CO. Additional Class E airspace is necessary to accommodate aircraft using a new Instrument Landing System or Localizer Distance Measuring Equipment (ILS or LOC.DME) Standard Instrument Approach Procedures (SIAP) at Eagle County Regional Airport. This change is necessary for the safety of Instrument Flight Rules (IFR) aircraft executing the new SIAP at Eagle County Regional Airport, Eagle, CO.

DATES: Comments must be received by July 5, 2005.

ADDRESSES: Send comments on this proposal to the Docket Management System, U.S. Department of Transportation, Room Plaza 401, 400 Seventh Street, SW., Washington, DC 20590-0001. You must identify the docket number, FAA 2005-21078; Airspace Docket 05-ANM-07, at the beginning of your comments. You may also submit comments through the Internet at http://dms.dot.gov. You may review the public docket containing the proposal, any comments received, and any final dispositions in person in the Docket Office between 9 a.m. and 5 p.m., Monday through Friday, except Federal holidays. The Docket Office (telephone number 1-800-647-5527) is on the plaza level of the Department of Transportation NASSIF Building at the above address.

An informal docket may also be examined during normal business hours at the Federal Aviation Administration, Air Traffic Organization, Western En Route and Oceanic Area Office, Airspace Branch, 1601 Lind Avenue, SW., Renton, WA 98055.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify Docket No. FAA 2005-21078; Airspace Docket 05-ANM-07, and be submitted in triplicate to the address listed above. Commenters wishing the FAA to acknowledge receipt of their comments on this action must submit, with those comments, a self-addressed stamped postcard on which the following statement is made: “Comments to Docket FAA 2005-21078; Airspace Docket 05-ANM-07”. The postcard will be date/time stamped and returned to the commenter.

Availability of NPRM

An electronic copy of this document may be downloaded through the Internet at http://dms.dot.gov. Recently published rulemaking documents can also be accessed through the FAA's Web page at http://www.faa.gov or the Superintendent of Document's Web page at http://www.access.gpo.gov/nara.

Additionally, any person may obtain a copy of this notice by submitting a request to the Federal Aviation Administration, Western En Route and Oceanic Area Office, Airspace Branch, 1501 Lind Avenue, SW., Renton, WA 98055. Communications must identify both document numbers for this notice. Persons interested in being placed on a mailing list for future NPRMs should contact the FAA's Office of Rulemaking, 202-267-9677, to request a copy of Advisory Circular No. 11-2A, Notice of Proposed Rulemaking Distribution System, which describes the application procedures.

The Proposal

This action would amend Title 14 Code of Federal Regulations, part 71 (14 CFR part 71) by establishing Class E airspace at Eagle County Regional Airport, Eagle, CO. Additional Class E airspace extending upward from the surface is necessary to accommodate aircraft using the new ILS or LOC DME SIAP at Eagle County Regional Airport. Additional Class E airspace extending upward from the surface is necessary to accommodate aircraft using the ILS or LOC DME SIAPs at Eagles County Regional Airport. This Class E airspace is necessary for the safety of IFR aircraft executing the new SIAPs at Eagle County Regional Airport, Eagle, CO. Class E airspace designations are published in paragraph 6002 of FAA Order 7400.9M dated August 30, 2004, and effective September 16, 2004, which is incorporated by reference in 14 CFR part 71.1. The Class E airspace designation listed in this document will be published subsequently in this order.

The FAA has determined that this proposed regulation only involves an established body of technical regulations for which frequent and routine amendments are necessary to keep them operationally current. Therefore, this proposed regulations; (1) is not a “significant regulatory action” under Executive Order 12866; (2) is not a “significant rule” under DOT Regulatory Policies and Procedures (44 FR 11034; February 26, 1979); and (3) does not warrant preparation of a regulatory evaluation as the anticipated impact is so minimal. Since this is a routine matter than will only affect air traffic procedures and air navigation, it is certified that this proposed rule would not have a significant economic impact on a substantial number of small entities under the criteria of the Regulatory Flexibility Act.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR part 71.1 of the Federal Aviation Administration Order 7400.9M, Airspace Designations and Reporting Points, dated August 30, 2004, and effective September 16, 2004 is amended as follows:

3. Paragraph 6002. Class E airspace areas extending upward from the surface of the earth.

* * * * *

ANM WA E Eagle, CO. [New]

Eagle County Regional Airport, CO

(Lat. 39°38′33″ N., long. 106°55′04″ W.)

That airspace extending upward from the surface of the earth within 4.4 mile radius of Eagle County Regional Airport, and within 4.0 miles each side of the 079° radial extending from the 4.4 mile radius to 14 miles northeast of the Eagle County Regional Airport. Class E airspace is effective during the specific dates and times established in advance by a Notice to Airmen. The effective date and time will thereafter be continuously published in the Airport/Facility Directory.

* * * * *

Issued in Seattle, Washington, on May 16, 2005.
Danial Mawhorter,
Acting Area Director, Western En Route and Oceanic Operations.

[FR Doc. 05-10905 Filed 6-1-05; 8:45 am]

BILLING CODE 4910-13-M